DEPARTMENT OF JUSTICE

Notice of Lodging of a Consent Decree Under the Comprehensive Environmental Response, Compensation and Liability Act and the Clean Water Act

Notice is hereby given that on December 20, 2006 a proposed Consent Decree “Consent Decree” in United States v. EnTire Recycling, Inc., Civil Action No. 8:06-CV-766 was lodged with the United States District Court for the District of Nebraska.

In this action the United States sought recovery of costs incurred by the National Pollution Funds Center and the Environmental Protection Agency in responding to the release, discharge and threat of release of oil and hazardous substances at a tire recycling facility owned and operated by Defendants EnTire Recycling, Inc., Brock Grain Company, Inc. and James D. Gerking in Nebraska City, Nebraska. Under the Consent Decree, the Defendants will reimburse the United States $201,000.00.

The Department of Justice will receive for a period of thirty (30) days from the date of this publication comments relating to the Consent Decree. Comments should be addressed to the Assistant Attorney General, Environment and Natural Resources Division, P.O. Box 7611, U.S. Department of Justice, Washington, DC 20044-7611, and should refer to United States v. EnTire Recycling, Inc. D.J. Ref. 90-5-1-1-08431. The Consent Decree may be examined at the Office of the United States Attorney, District of Nebraska, 1620 Dodge Street, Suite 1400, Omaha, Nebraska 68102 and at U.S. EPA Region VII, 901 North 5th Street, Kansas City, Kansas 66025. During the public comment period, the Consent Decree may also be examined on the following Department of Justice Web site, to http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.00 (25 cents per page reproduction cost) payable to the U.S. Treasury or, if by e-mail or fax, forward a check in that amount to the Consent Decree Library at the stated address.

Robert E. Maher, Jr.,
Assistant Section Chief, Environmental Enforcement Section, Environment and Natural Resources Division.

[FR Doc. 07-49 Filed 1-10-07; 8:45 am]

BILLING CODE 4410-15-M